DEPARTMENT OF ENERGY

Federal Energy Regulatory Commission

[Docket No. CP03-329-000]

Columbia Gas Transmission Corporation; Notice of Application

July 3, 2003.

Take notice that on June 26, 2003, Columbia Gas Transmission Corporation (Columbia), 1700 MacCorkle Avenue, SE., Charleston, West Virginia 25314, filed in Docket No. CP03-329-000, pursuant to section 7(b) of the Natural Gas Act (NGA), for permission and approval to abandon by sale to Columbia Natural Resources, Inc., a Texas corporation, certain natural gas pipeline facilities located in Lincoln and Wayne Counties, West Virginia, together with the service provided through such facilities. Columbia states that in addition, Columbia requests that the Commission find the abandoned facilities, that were certificated by the Commission as transmission, to be gathering, and therefore exempt from the Commission's jurisdiction, all as more fully set forth in the application which is on file with the Commission and open to public inspection. This filing is available for review on the Commission's Web site at http://www.ferc.gov using the “FERRIS” link. Enter the docket number excluding the last three digits in the docket number field to access the document. For assistance, contact FERC Online Support at FERCOnlineSupport@ferc.gov or toll-free at (866) 208-3676, or for TTY, contact (202) 502-8659.

Columbia states that the facilities proposed for abandonment by sale are Columbia's BM-44 System which consists of Line BM-44, a portion of BM-19-S1 and appurtenances. The facilities are located in Wayne and Lincoln Counties, West Virginia. Columbia states that the facilities were constructed by Columbia's predecessors in the early 1900's as a part of a low pressure transmission system in West Virginia. Columbia explains that the facilities were constructed to support Columbia's role as a merchant. Columbia further explains that the facilities currently transport local production from various points along the facilities which are delivered into Columbia's mainline for redelivery to various markets. Therefore, Columbia states that the facilities are no longer an integral component of its transmission system and that the long-term needs of its customers will be better served though a divestiture of the facilities. Columbia also proposes to abandon certain services now rendered through the subject facilities. CNR states that it has advised Columbia that it will continue to provide service to the customers being served through the facilities at the time of the sale. The facilities will be sold for $188,305.

Any questions regarding the application should be directed to Fredric J. George, Senior Attorney, Columbia Gas Transmission Corporation, P.O. Box 1273, Charleston, West Virginia 22030-0146 at (304) 357-2359.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper. See 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: July 24, 2003.

Linda Mitry,
Acting Secretary.

[FR Doc. 03-17485 Filed 7-9-03; 8:45 am]

BILLING CODE 6717-01-P